DEPARTMENT OF LABOR

Employment and Training Administration

[NAFTA-4883; NAFTA-4883A]

Motorola, Inc., Global Telecom Solutions Sector (GTSS), Formerly Network Solutions Sector (NSS), Plantation, FL.; and Motorola, Inc., Commercial, Government, Industrial Solutions Sector (CGISS), Plantation, FL.; Amended Certification Regarding Eligibility To Apply for NAFTA—Transitional Adjustment Assistance

In accordance with Section 250(a), Subchapter D, Chapter 2, Title II, of the Trade Act of 1974, as amended (19 U.S.C. 2273), the Department of Labor issued a Certification of Eligibility to Apply for NAFTA Transitional Adjustment Assistance on July 27, 2001, applicable to workers of Motorola, Inc., iDEN Subscriber Division, located in Plantation, Florida. The notice was published in the Federal Register on August 15, 2001 (FR 66 42879).

At the request of the company, the Department reviewed the certification for workers of the subject firm. The company reports that employment has declined further as a portion of production of CGISS and IDEN EBTS radio system units at Motorola's Global Telecom Solutions Sector (GTSS), of which the iDEN Subscriber Division is a subdivision, and its Commercial, Government, Industrial Solutions Sector (CGISS), has shifted from Plantation, Florida to Mexico.

The intent of the Department's certification is to include all workers of Motorola, Inc., in Plantation, Florida, adversely affected by the shift in production from the subject plant to Mexico.

Accordingly, the Department is amending the certification to include workers at Motorola, Plantation, Florida, engaged in employment related to production in CGISS and IDEN EBTS radio system units. The amended notice applicable to NAFTA-4883 is hereby issued as follows:

All workers at Motorola, Inc., at the Global Telecom Solutions Sector (GTSS), Formerly Network Solutions Sector (NSS), Plantation, Florida (NAFTA-4883), and Commercial and Government, Industrial Solutions Sector (CGISS), Plantation, Florida (NAFTA-4883A), engaged in activities related to the production of CGISS and IDEN EBTS radio system units, who became totally or partially separated from employment on or after May 14, 2000 through July 27, 2003, are eligible to apply for NAFTA-TAA under Section 250 of the Trade Act of 1974.

Signed in Washington, DC this 10th day of June 2002.
Linda G. Poole,
Certifying Officer, Division of Trade Adjustment Assistance.

[FR Doc. 02-15753 Filed 6-20-02; 8:45 am]

BILLING CODE 4510-30-P